DEPARTMENT OF HEALTH AND HUMAN SERVICES

Centers for Disease Control and Prevention

ICD-10 Coordination and Maintenance (C&M) Committee

AGENCY: Centers for Disease Control and Prevention (CDC), Department of Health and Human Services (HHS).

ACTION: Notice of public meeting. National Center for Health Statistics (NCHS), Classifications and Public Health Data Standards Staff, announces the following meeting.

Name: ICD-10 Coordination and Maintenance (C&M) Committee meeting.

DATES: Time and Date: 9:00 a.m.-5:00 p.m., EDT, September 23-24, 2014.

Place: Centers for Medicare and Medicaid Services (CMS) Auditorium, 7500 Security Boulevard, Baltimore, Maryland 21244.

Status: Open to the public, limited only by the space available. The meeting room accommodates approximately 240 people. We will be broadcasting the meeting live via Webcast at http://www.cms.gov/live/.

Security Considerations: Due to increased security requirements CMS has instituted stringent procedures for entrance into the building by non-government employees. Attendees will need to present valid government-issued picture identification, and sign-in at the security desk upon entering the building.

Attendees who wish to attend the September 23-24, 2014, ICD-10 C&M meeting must submit their name and organization by September 12, 2014, for inclusion on the visitor list. This visitor list will be maintained at the front desk of the CMS building and used by the guards to admit visitors to the meeting.

Participants who attended previous Coordination and Maintenance meetings will no longer be automatically added to the visitor list. You must request inclusion of your name prior to each meeting you wish attend.

Please register to attend the meeting on-line at: http://www.cms.hhs.gov/apps/events/.

Please contact Mady Hue (410-786-4510 or Marilu.hue@cms.hhs.gov), for questions about the registration process.

Purpose: The ICD-10 Coordination and Maintenance (C&M) Committee is a public forum for the presentation of proposed modifications to the International Classification of Diseases, Tenth Revision, Clinical Modification and ICD-10 Procedure Coding System.

Matters for Discussion: Tentative agenda items include:

September 23-24, 2014

ICD-10-PCS Topics:

Hip and Knee Replacements

Face Transplants

Hand Transplants

Laparoscopic-assisted Pull-Through (Swenson)

Administration of Ceftazidime-Avibactam

Drug Coated Balloon Angioplasty

Minimally Invasive Cardiac Valve Surgery

Addenda and Key Updates

ICD-10-CM Diagnosis Topics:

Observation and evaluation of newborns for suspected condition not found

Sarcopenia

Incontinence

Dyspareunia

Castleman Disease

Gestational Carrier

Third Degree Laceration

Ectopic Pregnancy

Initial Encounter and Surveillance for vaginal ring

hormonal contraceptive device and transdermal patch

hormonal contraceptive device

Ovarian Cyst Laterality

Supervision of Pregnancy with History of Ectopic or Molar Pregnancy

National Institute of Health Stroke Scale

Irritable Bowel Syndrome

Chronic Idiopathic Constipation

ICD-10-CM Addendum

Agenda items are subject to change as priorities dictate.

Note: CMS and NCHS will no longer provide paper copies of handouts for the meeting. Electronic copies of all meeting materials will be posted on the CMS and NCHS Web sites prior to the meeting at http://www.cms.hhs.gov/ICD9ProviderDiagnosticCodes/03_meetings.asp#TopOfPage and http://www.cdc.gov/nchs/icd/icd9cm_maintenance.htm.

Contact Persons for Additional Information: Donna Pickett, Medical Systems Administrator, Classifications and Public Health Data Standards Staff, NCHS, 3311 Toledo Road, Room 2413, Hyattsville, Maryland 20782, email dfp4@cdc.gov, telephone 301-458-4434 (diagnosis); Mady Hue, Health Insurance Specialist, Division of Acute Care, CMS, 7500 Security Boulevard, Baltimore, Maryland 21244, email marilu.hue@cms.hhs.gov, telephone 410-786-4510 (procedures).

The Director, Management Analysis and Services Office, has been delegated the authority to sign Federal Register notices pertaining to announcements of meetings and other committee management activities, for both the Centers for Disease Control and Prevention, and the Agency for Toxic Substances and Disease Registry.

Gary Johnson,
Acting Director, Management Analysis and Services Office, Centers for Disease Control and Prevention.

[FR Doc. 2014-20067 Filed 8-22-14; 8:45 am]

BILLING CODE 4160-18-P